DEPARTMENT OF ENERGY

Federal Energy Regulatory Commission

Notice of Application for Amendment of License and Soliciting Comments, Motions To Intervene, and Protests

November 18, 2005.

Take notice that the following application has been filed with the Commission and is available for public inspection:

a. Application Type: Amendment of License.

b. Project No.: 12379-005.

c. Date Filed: August 26, 2005.

d. Applicant: Lake Dorothy Hydro, Inc., Alaska.

e. Name of Project: Lake Dorothy Hydroelectric Project.

f. Location: The project is located on Dorothy Creek, near Juneau, Alaska.

g. Filed Pursuant to: Federal Power Act, 16 U.S.C. 791a-825r.

h. Applicant Contact: Corry V. Hildebrand, Lake Dorothy Hydro Inc., 5601 Tonsgard Court, Juneau, AK 99801-7201.

i. FERC Contact: Any questions on this notice should be addressed to Eric Gross, P.E. at (202) 502-6213, or e-mail address: eric.gross@ferc.gov.

j. Deadline for filing comments and or motions: December 19, 2005.

k. Description of Request: In their August 26, 2005 filing, Lake Dorothy Hydro, Inc. (licensee) proposes to amend the license for the Lake Dorothy Hydroelectric Project to replace the proposed lake tap at Bart Lake with a rock fill diversion dam and outlet works. According to the licensee the geology of Bart Lake will not support the lake tap and that the natural debris dam that contains the lake is subject to periodic failure and cannot be relied upon for constant lake levels. In a supplemental October 21, 2005, filing the licensee also proposes to relocate the powerhouse and the substation. The license calls for the powerhouse and substation to be built on a beach fill site. According to the licensee, a geotechnical investigation determined that the beach fill site would not be stable in an earthquake, so the licensee proposes relocating the structures to separate rock benches upstream of the beach fill site. The licensee states that there will be no additional environmental impacts due to these revisions, and that the project operation would be unchanged.

l. Locations of Applications: A copy of the application is available for inspection and reproduction at the Commission in the Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST”, or “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-6493 Filed 11-23-05; 8:45 am]

BILLING CODE 6717-01-P